DEPARTMENT OF TRANSPORTATION

Federal Aviation Administration

Notice of Opportunity for Public Comment on a Land Use Change From Aeronautical to Non-Aeronautical Use for 419 Acres of Airport Land for Solar Farm Use at Sanford Seacoast Regional Airport, Sanford, ME

AGENCY: Federal Aviation Administration (FAA), DOT.

ACTION: Request for public comments.

SUMMARY: Notice is being given that the FAA is considering a request from the Sanford Seacoast Regional Airport, to change the current land use from aeronautical use to non-aeronautical use of 419 acres of land. The parcels are located along the southwesterly side of Runway 07/25, the northerly end of Runway 25 and in a portion of the infield area between Runway 07/25 and Runway 14/32. There is adequate developable area on the airport to meet the future twenty year need for projected activity and the Airport Layout Plan was updated with a Pen and Ink change to designate the parcels for non-aeronautical use. The airport will obtain fair market value for the lease of the land and the income derived from this lease will be placed in the airport's operation and maintenance funds for the facility.

DATES: Comments must be received on or before January 11, 2018.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts, 01803. Telephone: 781-238-7618.

Issued in Burlington, Massachusetts, on November 20, 2017.
Kathleen Coffey,
Acting Manager, ANE-600.

[FR Doc. 2017-26772 Filed 12-11-17; 8:45 am]

BILLING CODE P